DEPARTMENT OF HEALTH AND HUMAN SERVICES

Substance Abuse and Mental Health Services Administration

Agency Information Collection Activities: Proposed Collection; Comment Request

In compliance with section 3506(c)(2)(A) of the Paperwork Reduction Act of 1995 concerning the opportunity for public comment on proposed collections of information, the Substance Abuse and Mental Health Services Administration (SAMHSA) will publish periodic summaries of proposed projects. To request more information on the proposed projects or to obtain a copy of the information collection plans, call the SAMHSA Reports Clearance Officer at (240) 276-0361.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: PEERS Harm Reduction Evaluation: Point-in-Time Harm Reduction (PiT HR) Survey

Funded in FY 2022, the Harm Reduction (HR) Grant Program aims to support community-based overdose prevention programs, syringe services programs, and other harm reduction services. Funding is used to enhance overdose and other types of prevention activities to help control the spread of infectious diseases and the consequences of such diseases for individuals with, or at risk of developing substance use disorders (SUD), support distribution of FDA-approved overdose reversal medication to individuals at risk of overdose, build connections for individuals at risk for, or with, a SUD to overdose education, counseling, and health education, refer individuals to treatment for infectious diseases such as HIV, sexually transmitted infections (STIs), and viral hepatitis, and encourage such individuals to take steps to reduce the negative personal and public health impacts of substance use or misuse. As part of the Harm Reduction grant program evaluation, conducted through the Program Evaluation, Effectiveness, and Review Services (PEERS) contract, SAMHSA's Center for Substance Abuse Prevention (CSAP) is requesting approval from the Office of Management and Budget (OMB) to administer a Point-In-Time Harm Reduction (PiT HR) survey to better understand the program.

The PiT HR survey will elicit information from participants of the Harm Reduction Grant Program grantees to assess the extent to which grantees have achieved CSAP's goals of strengthening harm reduction programs. Data from the survey will help CSAP better understand: (1) the socio-demographic and drug use characteristics of participants who receive HR services and supplies across the country; (2) the HR services and supplies participants received and unmet needs; and (3) the social-cultural and structural barriers to receiving HR services and supplies. This anonymous survey will allow for an assessment of whether HR programs are reaching high-risk and underserved populations and populations experiencing behavioral health disparities and will help guide improvements to the HR Grant Program. The data will be aggregated across grantee programs to provide CSAP with a national picture of the population receiving HR services and supplies, the services and supplies they access, and perceived barriers to ensure the HR Grant Program meets its goals. Grantees will be provided with brief grantee-level reports providing actionable information to inform and strengthen their services. The grantee reports will provide insight into the populations they serve, the extent to which their services reach the populations they've identified as priority populations, whether the program meets the needs of their participants, and what barriers remain to service access. These reports will inform the implementation of their programs and help them address gaps in service delivery. HR Program Grantees do not collect survey data from their participants. The PiT HR Survey has been designed to answer questions that cannot be answered with existing data with minimal burden on grantees and respondents. It strengthens the evaluation by including participant voice.

Most HR programs will administer the survey electronically on a tablet using the web-based survey. Tablets will be provided to the harm reduction grantees for this purpose during the survey administration period. The tablets will include an offline data collection function, which utilizes an app that runs directly from the tablet and collects and securely stores data on the tablet until or unless the tablet is connected to Wi-Fi. Once the tablet is connected to Wi-Fi, stored surveys are automatically uploaded to a secure online database and are no longer accessible on the tablet. Utilizing the offline data collection functions ensures that programs can participate even if they do not have stable Wi-Fi connections. In addition, the audio-enabled feature will assist participants who want to take the survey but have vision difficulties or lower literacy levels without requiring staff to read the survey questions to them. Once uploaded, survey data will be easily accessible by the PEERS evaluation staff who have access to the project survey system, allowing staff to provide ongoing data quality monitoring throughout the process. Grantees will receive financial compensation to support their efforts to recruit and administer the survey.

A pen-and-paper version of the PiT HR Survey will be available to grantees who would prefer this approach when conducting outreach in the community where the use of the tablets may raise staff safety risks. Programs that provide outreach services may elect to use the pen-and-paper or the tablet version of the survey depending on their preferences and the communities they serve. The pen-and-paper version of the survey would be read aloud by staff to address literacy concerns. Completed paper surveys will be stored in locked cabinets in the HR Grantee Program offices and mailed via certified mail to the PEERS office. PEERS will immediately store the paper survey in locked cabinets, accessible only to the PEERS evaluation team. The raw data will be entered into SPSS and stored on password-protected computers requiring multifactor authentication. No person outside of the PEERS evaluation team will have access to the data. All data will be closely safeguarded, and no institutional or individual identifiers will be used in reports. Only aggregated data will be reported. SAMHSA and its contractors will not receive identifiable participant records.

Those who participate in the survey will receive a $25 Visa gift card to compensate them for the 25-minute duration of the PiT HR Survey, which includes time for recruitment, consent, survey completion, and gift card receipt. The primary consequence of not collecting the PiT HR survey data is that CSAP would not have current information to understand (1) whether the target populations of the Harm Reduction Grant Program are being reached; (2) whether the service needs of the target populations are being met; and (3) the barriers target populations face in utilizing HR services to inform future grant programs. No other HR evaluation component brings in the often-overlooked voice of the recipients of HR services and supplies.

The PiT HR Survey is cross-sectional, therefore the data will be collected only once from any survey participant. Individual grantees vary from small entities to large provider organizations. Every effort has been made to minimize the number of survey items asked of respondents down to the least number of items necessary to accomplish the objectives described within. As a result, there is no significant impact on small entities.

Estimated Total Burden for Harm Reduction Point-in-Time Data Collection

The estimates in this table reflect the maximum annual burden for the proposed PiT HR Survey at the 25 HR grantee sites funded through May 2025. These estimates are based on informal pilot testing of the instrument among PEERS staff.

Table 1—Estimates of Annualized Hour Burden
SAMHSA tool | Number of respondents | Responses per respondent | Total number of responses | Burden hours per response | Total burden hours | Hourly wage ¹ | Total hour cost
PiT HR Survey | 25 sites * 50 participants = 1,250 | 1 | 1,250 | 0.417 | 521.25 | $34.27 | $17,863.24
¹ The average hourly wage for a US worker in January 2024 is $34.27 based on US Bureau of Labor statistics. (https://www.bls.gov/news.release/empsit.nr0.htm).

Send comments to SAMHSA Reports Clearance Officer, 5600 Fisher Lane, Room 15E57A, Rockville, MD 20852 OR email him a copy at samhsapra@samhsa.hhs.gov. Written comments should be received by November 12, 2024.

Alicia Broadus,
Public Health Advisor.

[FR Doc. 2024-20431 Filed 9-10-24; 8:45 am]

BILLING CODE 4162-20-P